DEPARTMENT OF HOMELAND SECURITY

Coast Guard

46 CFR Part 10

[Docket No. USCG-2012-0734]

Medical Waivers for Merchant Mariner Credential Applicants With Anti-Tachycardia Devices or Implantable Cardioverter Defibrillators

AGENCY: Coast Guard, DHS.

ACTION: Notice to reopen public comment period.

SUMMARY: On September 7, 2012, the Coast Guard published a notice of proposed policy change and request for comments regarding criteria for granting medical waivers to mariners who have anti-tachycardia devices or implantable cardioverter defibrillators (ICDs). The public comment period for the notice expired on October 9, 2012. In today's action, the Coast Guard is reopening the public comment period to provide additional time for interested parties to submit comments.

DATES: Comments and related material must either be submitted to our online docket via http://www.regulations.gov on or before January 16, 2013 or reach the Docket Management Facility by that date.

ADDRESSES: You may submit comments identified by docket number USCG-2011-0734 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation” portion of the SUPPLEMENTARY INFORMATION section below for instructions on submitting comments.

FOR FURTHER INFORMATION CONTACT: If you have questions about this notice, call or email Lieutenant Ashley Holm, Mariner Credentialing Program Policy Division (CG-CVC-4), U.S. Coast Guard, telephone 202-372-1128, email MMCPolicy@uscg.mil. If you have questions on viewing material in the docket, call Renee V. Wright, Program Manager, Docket Operations, telephone 202-366-9826.

SUPPLEMENTARY INFORMATION:

Public Participation

You may submit comments and related material regarding whether the proposed policy change should be incorporated into a final policy on issuing medical waivers to mariners with ICDs. All comments received will be posted, without change, to http://www.regulations.gov and will include any personal information you have provided.

Submitting comments: If you submit a comment, please include the docket number for this notice (USCG-2012-0734) and provide a reason for each suggestion or recommendation. You may submit your comments and material online or by fax, mail or hand delivery, but please use only one of these means. We recommend that you include your name and a mailing address, an email address, or a telephone number in the body of your document so that we can contact you if we have questions regarding your submission.

To submit your comment online, go to http://www.regulations.gov and insert “USCG-2012-0734” in the “Search” box. Click “Search,” find this notice in the list of Results, and then click on the corresponding “Comment Now” box. If you submit your comments by mail or hand delivery, submit them in an unbound format, no larger than 8½ by 11 inches, suitable for copying and electronic filing. If you submit comments by mail and would like to know that they reached the Facility, please enclose a stamped, self-addressed postcard or envelope. We will consider all comments and material received during the comment period.

Viewing the comments: To view comments, as well as documents mentioned in this notice as being available in the docket, go to http://www.regulations.gov and insert “USCG-2012-0734” in the “Search” box. Click “Search” and use the filters on the left side of the page to highlight “Public Submissions” or other document types. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act system of records notice regarding our public dockets in the January 17, 2008 issue of the Federal Register (73 FR 3316).

Background and Purpose

On September 7, 2012, the Coast Guard published a notice of proposed policy change and request for comments regarding criteria for granting medical waivers to mariners who have anti-tachycardia devices or ICDs (77 FR 55174). The notice contains a detailed description of the relevant regulatory provisions, guidance documents, and policy considerations. The notice also lists a series of 12 questions we are considering as the criteria for granting a medical waiver. The notice requests public comment regarding whether the 12 questions represent an appropriate and sufficient list of the criteria a mariner should be required to meet in order to be eligible for waiver consideration, or whether we should eliminate or modify any of the questions, or add other questions to the list.

We received 33 public comments in response to the notice before the comment period closed on October 9, 2012. Because of the complexity and importance of the issues involved, we are reopening the comment period to provide interested parties additional time to submit comments. We request that you not re-submit comments already in the docket. You may, however, comment on other comments already in the docket; if you choose to do so, please ensure you identify which comment you are responding to.

Request for Comments

We encourage your participation by submitting your comments to the Docket Management Facility as specified in the ADDRESSES section above. We will consider comments received during the reopened comment period prior to establishing a final policy on whether waivers should be granted for anti-tachycardia devices or ICDs, and if so, under what circumstances.

Authority

We issue this request for public comments under the authority of 5 U.S.C. 552(a).

Dated: December 7, 2012.
P.F. Thomas,
Captain, U.S. Coast Guard, Director of Inspections and Compliance.

[FR Doc. 2012-30296 Filed 12-14-12; 8:45 am]

BILLING CODE 9110-04-P